DEPARTMENT OF COMMERCE

Foreign-Trade Zones Board

[B-59-2020]

Foreign-Trade Zone (FTZ) 26—Atlanta, Georgia Notification of Proposed Production Activity, OFS Fitel, LLC (Optical Fiber Products) Carrollton, Georgia

OFS Fitel, LLC (OFS Fitel) submitted a notification of proposed production activity to the FTZ Board for its facility in Carrollton, Georgia. The notification conforming to the requirements of the regulations of the FTZ Board (15 CFR 400.22) was received on September 21, 2020.

The OFS Fitel facility is located within FTZ 26. The facility is used for the production of optical fiber products. Pursuant to 15 CFR 400.14(b), FTZ activity would be limited to the specific foreign-status materials and components and specific finished products described in the submitted notification (as described below) and subsequently authorized by the FTZ Board.

Production under FTZ procedures could exempt OFS Fitel from customs duty payments on the foreign-status components used in export production. On its domestic sales, for the foreign-status materials/components noted below, OFS Fitel would be able to choose the duty rates during customs entry procedures that apply to optical fibers and optical fiber cables, bundles and ribbon (duty rates are duty-free or 6.7%). OFS Fitel would be able to avoid duty on foreign-status components which become scrap/waste. Customs duties also could possibly be deferred or reduced on foreign-status production equipment.

The components and materials sourced from abroad include: Color chips (high concentration of pigments and additives encapsulated by a polymer); UV curable ink (liquid pre-polymer); epoxy; plastic jacketing compound; flame retardant plastic jacketing compound; acrylic plastic central members or rods; standard non-waterblock and waterblock aramid yarn; water block tape (nonwoven polyester); stainless steel wire; optical fibers; optical bundles; steel tape; alloy steel tape; and, jacketed plastic strength members (duty rate ranges from duty-free to 8.8%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is November 9, 2020.

A copy of the notification will be available for public inspection in the “Reading Room” section of the Board's website, which is accessible via www.trade.gov/ftz.

For further information, contact Diane Finver at Diane.Finver@trade.gov or (202) 482-1367.

Dated: September 24, 2020
Andrew McGilvray,
Executive Secretary.

[FR Doc. 2020-21583 Filed 9-29-20; 8:45 am]

BILLING CODE 3510-DS-P